DEPARTMENT OF THE INTERIOR

Bureau of Land Management

[LLCON00000-17x-L10200000.DF0000.LXSS080C0000]

Notice of Public Meetings; Northwest Colorado Resource Advisory Council Meetings

AGENCY: Bureau of Land Management, Interior.

ACTION: Notice.

SUMMARY: In accordance with the Federal Land Policy and Management Act (FLPMA) and the Federal Advisory Committee Act of 1972, the U.S. Department of the Interior, Bureau of Land Management (BLM) Northwest Colorado Resource Advisory Council (RAC) will meet as indicated below.

DATES: The Northwest Colorado RAC has scheduled its 2017 meetings for March 2, June 1, August 24 and December 7 from 8 a.m. to 3 p.m. with public comment periods at 10 a.m. and 2 p.m. A specific agenda for each meeting will be available prior to the meeting at https://www.blm.gov/get-involved/resource-advisory-council/near-you/colorado/northwest-rac.

ADDRESSES: The March 2 meeting will be in Glenwood Springs, Colorado, at the Glenwood Springs Community Center, 100 Wulfsohn Road; the June 1 meeting will be in Meeker, Colorado, at the Meeker Public Library, 490 Main St.; the August 24 meeting will be in Walden, Colorado, at the Whattenberg Center on the Jackson County Fairgrounds, 686 County Road 42; the December 7 meeting will be in Craig, Colorado, at the Clarion Inn, 300 South Colorado Highway 13.

FOR FURTHER INFORMATION CONTACT: David Boyd, Public Affairs Specialist, Colorado Northwest District, 2300 River Frontage Road, Silt, CO 81652; (970) 876-9008. Persons who use a telecommunications device for the deaf (TDD) may call the Federal Relay Service at 1-800-877-8339 to contact the above individual during normal business hours. The Service is available 24 hours a day, seven days a week, to leave a message or question with the above individual. You will receive a reply during normal business hours.

SUPPLEMENTARY INFORMATION: The Northwest Colorado RAC advises the Secretary of the Interior, through the BLM, on a variety of public land issues in northwestern Colorado. Topics of discussion during Northwest Colorado RAC meetings may include management of the Greater Sage-Grouse, working group reports, recreation, fire management, land use planning, invasive species management, energy and minerals management, travel management, wilderness, wild horse herd management, land exchange proposals, cultural resource management, and other issues as appropriate. These meetings are open to the public. Subcommittees under this RAC may meet this year regarding travel management in the White River Field Office. Active subcommittees report to the RAC at each council meeting. Subcommittee meetings are open to the public. More information is available at https://www.blm.gov/get-involved/resource-advisory-council/near-you/colorado/northwest-rac. The public may present written comments to the RACs. Each formal RAC meeting will also have time allocated, as identified above, for hearing public comments. Depending on the number of persons wishing to comment and time available, the time for individual oral comments may be limited.

Ruth Welch,
BLM Colorado State Director.

[FR Doc. 2017-03248 Filed 2-15-17; 8:45 am]

BILLING CODE 4310-JB-P